FEDERAL RESERVE SYSTEM

Notification of Amendment to the Rules of Organization; Federal Open Market Committee

AGENCY: Federal Open Market Committee, Federal Reserve System.

SUMMARY: The Federal Open Market Committee amended its Rules of Organization to replace the terms “Chairman” and “Vice Chairman” with “Chair” and Vice Chair,” respectively.

DATES: The amendments to the Rules of Organization became effective on February 17, 2021.

FOR FURTHER INFORMATION CONTACT: Matthew Luecke, Deputy Secretary of the Federal Open Market Committee, (202) 452-2576, 20th and C Streets NW, Washington, DC 20551; or Alye S. Foster, Deputy Associate General Counsel (202-452-5289), Legal Division, Board of Governors of the Federal Reserve System.

SUPPLEMENTARY INFORMATION: The Federal Open Market Committee (Committee) has replaced the references in its Rules of Organization to “Chairman” and “Vice Chairman,” with “Chair” and “Vice Chair,” respectively. Although the terms “Chairman” and “Vice Chairman” are referenced in the Federal Reserve Act, traditionally these terms have been used to refer to persons regardless of gender. As the terms are not intended to be and, in practice, are not gender-specific, the Committee is replacing the terms “Chairman” and “Vice Chairman” in the Committee's Rules of Organization with their gender-neutral equivalents of “Chair” and “Vice Chair,” respectively. This change also aligns the Committee's Rules of Organization with its practice.

The Committee has incorporated the amendments into the Committee's Rules of Organization, which are uncodified regulations for use by the Committee and are issued pursuant to 5 U.S.C. 552. Because the amendments relate solely to the internal organization, procedure, or practice of the Committee, the public notice, public comment, and delayed effective date provisions of the Administrative Procedure Act do not apply. See 5 U.S.C. 553(b) and (d).

For the reasons discussed above the Committee has amended its Rules of Organization as follows:

All references to “Chairman” and “Vice Chairman” are revised to read “Chair” and “Vice Chair,” respectively, wherever they appear.

By order of the Federal Open Market Committee.
Matthew M. Luecke,
Deputy Secretary, Federal Open Market Committee.

[FR Doc. 2021-04040 Filed 2-25-21; 8:45 am]

BILLING CODE 6210-01-P